ENVIRONMENTAL PROTECTION AGENCY

[FRL—9788-1]

Notification of a Public Teleconference of the Clean Air Scientific Advisory Committee

AGENCY: Environmental Protection Agency (EPA).

ACTION: Notice.

SUMMARY: The EPA Science Advisory Board (SAB) Staff Office announces a public teleconference of the Clean Air Scientific Advisory Committee (CASAC) to review its draft letters on EPA's Integrated Science Assessment for Lead (Third External Review Draft—November 2012) and EPA's Policy Assessment for the Review of the Lead National Ambient Air Quality Standards (First External Review Draft—January 2013).

DATES: The CASAC will hold a teleconference on Wednesday, May 8, 2013, from 1:00 p.m. to 3:00 p.m. (Eastern Time).

ADDRESSES: The CASAC public teleconference will take place via telephone only.

FOR FURTHER INFORMATION CONTACT: Any member of the public who wants further information concerning the CASAC's public teleconference may contact Dr. Holly Stallworth, Designated Federal Officer (DFO) via telephone at (202) 564-2073 or email at stallworth.holly@epa.gov. General information concerning the CASAC can be found on the EPA Web site at http://www.epa.gov/casac.

SUPPLEMENTARY INFORMATION: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the CASAC will hold a public teleconference review its draft letters on EPA's third external review draft of the Integrated Science Assessment for Lead (November 2012) and EPA's first external review draft of the Policy Assessment for the Review of the Lead National Ambient Air Quality Standards (January 2013). These draft letters are being prepared as part of CASAC's review of the National Ambient Air Quality Standards (NAAQS) for lead. The CASAC will comply with the provisions of FACA and all appropriate SAB Staff Office procedural policies. Section 109(d)(1) of the CAA requires that the Agency periodically review and revise, as appropriate, the air quality criteria and the NAAQS for the six “criteria” air pollutants, including lead. EPA is currently reviewing the primary (health-based) and secondary (welfare-based) NAAQS for lead. The CASAC Lead Review Panel previously reviewed EPA's first external review draft of the Integrated Science Assessment for Lead (May 2011) as reported in a CASAC letter to the EPA Administrator, dated December 9, 2011 (EPA-CASAC-12-002) and previously reviewed EPA's second external review draft of the Integrated Science Assessment for Lead (February 2012) as reported in a CASAC letter to the EPA Administrator, dated July 20, 2012 (EPA-CASAC-12-005). The CASAC Lead Review Panel met in a face-to-face meeting on February 5-6, 2013 to review EPA's third external review draft of the Integrated Science Assessment for Lead (November 2012) and EPA's first external review draft of the Policy Assessment for the Review of the Lead National Ambient Air Quality Standards (January 2013).

Technical Contacts: Any technical questions concerning the Integrated Science Assessment for Lead (Third External Review Draft—November 2012) should be directed to Dr. Ellen Kirrane (kirrane.ellen@epa.gov) and technical questions concerning the Policy Assessment for the Review of the Lead National Ambient Air Quality Standards (First External Review Draft—January 2013) should be directed to Dr. Deirdre Murphy (murphy.deirdre@epa.gov).

Availability of Meeting Materials: Prior to the teleconference, CASAC's draft letters, the agenda and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments for a federal advisory committee to consider pertaining to EPA's charge to the panel or meeting materials. Input from the public to the CASAC will have the most impact if it provides specific scientific or technical information or analysis for CASAC panels to consider or if it relates to the clarity or accuracy of the technical information. Members of the public wishing to provide comment should contact the DFO directly.

Oral Statements: In general, individuals or groups requesting an oral presentation will be limited to three minutes for public teleconferences. Interested parties should contact Dr. Holly Stallworth, DFO, in writing (preferably via email) at the contact information noted above by May 1, 2013, to be placed on the list of public speakers for the public teleconference. Written Statements: Written statements should be supplied to Dr. Holly Stallworth, DFO, via email at the contact information noted above by May 1, 2013 for the public teleconference. Written statements should be supplied in one of the following electronic formats: Adobe Acrobat PDF, MS Word, MS PowerPoint, or Rich Text files in IBM-PC/Windows 98/2000/XP format. It is the SAB Staff Office general policy to post written comments on the Web page for advisory meetings or teleconferences. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Dr. Holly Stallworth at (202) 564-2073 or stallworth.holly@epa.gov. To request accommodation of a disability, please contact Dr. Holly Stallworth preferably at least ten days prior to the public meeting and/or teleconference to give EPA as much time as possible to process your request.

Dated: February 25, 2013.
Thomas H. Brennan,
Deputy Director, EPA Science Advisory Board Staff Office.

[FR Doc. 2013-05221 Filed 3-5-13; 8:45 am]

BILLING CODE 6560-50-P